DEPARTMENT OF COMMERCE

International Trade Administration

[A-533-840]

Certain Frozen Warmwater Shrimp From India: Preliminary Results of Antidumping Duty Administrative Review and Partial Rescission; 2022-2023

AGENCY: Enforcement and Compliance, International Trade Administration, Department of Commerce.

SUMMARY: The U.S. Department of Commerce (Commerce) preliminarily determines that certain frozen warmwater shrimp (shrimp) from India is being, or is likely to be, sold in the United States at less than normal value (NV) during the period of review (POR) February 1, 2022, through January 31, 2023. In addition, Commerce is rescinding this review, in part, with respect to 164 companies because these companies had no reviewable entries of subject merchandise during the POR. We invite interested parties to comment on these preliminary results.

DATES: Applicable March 5, 2024.

FOR FURTHER INFORMATION CONTACT: Herawe Kebede or Ashley Cossaart, AD/CVD Operations, Office IX, Enforcement and Compliance, International Trade Administration, U.S. Department of Commerce, 1401 Constitution Avenue NW, Washington, DC 20230; telephone: (202) 482-4312 or (202) 482-0462, respectively.

SUPPLEMENTARY INFORMATION:

Background

On April 11, 2023, based on timely requests for review, in accordance with 19 CFR 351.221(c)(1)(i), Commerce initiated an administrative review of the antidumping duty order on shrimp from India.¹ This review covers 198 producers and/or exporters of the subject merchandise. Commerce selected two mandatory respondents for individual examination: NK Marine Exports LLP (NK Marine); and RSA Marines/Royal Oceans (RSA Marines).² For a complete description of the events that followed the initiation of this review, see the Preliminary Decision Memorandum.³

¹ See Initiation of Antidumping and Countervailing Duty Administrative Reviews, 88 FR 21609 (April 11, 2023).

² We determined that it was appropriate to collapse Royal Oceans and RSA Marines and treat these companies as a single entity in the 2019-2020 administrative review. See Certain Frozen Warmwater Shrimp from India: Preliminary Results of Antidumping Duty Administrative Review; 2019-2020, 86 FR 33658 (June 25, 2021), and accompanying Preliminary Decision Memorandum at 4, unchanged in Certain Frozen Warmwater Shrimp From India: Final Results of Antidumping Duty Administrative Review; 2019-2020, 86 FR 67740 (November 26, 2021).

³ See Memorandum, “Decision Memorandum for the Preliminary Results of the 2022-2023 Administrative Review of the Antidumping Duty Order on Certain Frozen Warmwater Shrimp from India,” dated concurrently with, and hereby adopted by, this notice (Preliminary Decision Memorandum).

Scope of the Order

The merchandise subject to the order is certain frozen warmwater shrimp. The product is currently classified under the following Harmonized Tariff Schedule of the United States (HTSUS) subheadings: 0306.17.00.04, 0306.17.00.05, 0306.17.00.07, 0306.17.00.08, 0306.17.00.10, 0306.17.00.11, 0306.17.00.13, 0306.17.00.14, 0306.17.00.16, 0306.17.00.17, 0306.17.00.19, 0306.17.00.20, 0306.17.00.22, 0306.17.00.23, 0306.17.00.25, 0306.17.00.26, 0306.17.00.28, 0306.17.00.29, 0306.17.00.41, 0306.17.00.42, 1605.21.10.30, and 1605.29.10.10. Although the HTSUS subheadings are provided for convenience and for customs purposes, the written product description remains dispositive.⁴

⁴ For a complete description of the scope of the order, see the Preliminary Decision Memorandum.

Rescission of Administrative Review, in Part

Pursuant to 19 CFR 351.213(d)(3), it is Commerce's practice to rescind an administrative review of an antidumping duty order where it concludes that there were no suspended entries of subject merchandise during the POR.⁵ Normally, upon completion of an administrative review, the suspended entries are liquidated at the antidumping duty assessment rate for the review period.⁶ Therefore, for an administrative review to be conducted, there must be a reviewable, suspended entry that Commerce can instruct U.S. Customs and Border Protection (CBP) to liquidate at the calculated antidumping duty assessment rate for the review period.⁷ Commerce notified all interested parties of its intent to rescind the instant review regarding the companies listed in Appendix III because there were no reviewable, suspended entries of subject merchandise from these companies during the POR and invited interested parties to comment.⁸ We received comments from the American Shrimp Processors Association (ASPA), arguing that Commerce should not rescind the review for the companies listed in the Intent to Rescind Memorandum because these companies have not submitted no-shipment certifications.⁹ However, In the absence of any suspended entries of subject merchandise from these companies during the POR, we are rescinding this administrative review for the companies listed in Appendix III, in accordance with 19 CFR 351.213(d)(3).

⁵ See, e.g., Certain Carbon and Alloy Steel Cut-to Length Plate from the Federal Republic of Germany: Recission of Antidumping Administrative Review; 2020-2021, 88 FR 4154 (January 24, 2023).

⁶ See 19 CFR 351.212(b)(1).

⁷ See, e.g., Shanghai Sunbeauty Trading Co. v. United States, 380 F. Supp. 3d 1328, 1337 (CIT 2019), at 12 (referring to section 751(a) of the Act, the CIT held: “While the statute does not explicitly require that an entry be suspended as a prerequisite for establishing entitlement to a review, it does explicitly state the determined rate will be used as the liquidation rate for the reviewed entries. This result can only obtain if the liquidation of entries has been suspended”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

⁸ See Memorandum, “Notice of Intent to Rescind Review, In Part,” dated February 1, 2024 (Intent to Rescind Memorandum).

⁹ See ASPA's Letter, “Comments on Intent to Rescind,” dated February 2, 2024.

Methodology

Commerce is conducting this review in accordance with sections 751(a)(1)(B) and (2) of the Tariff Act of 1930, as amended (the Act). Export price is calculated in accordance with section 772 of the Act. NV is calculated in accordance with section 773 of the Act.

For a full description of the methodology underlying our conclusions, see the Preliminary Decision Memorandum. A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Review-Specific Average Rate for Companies Not Selected for Individual Review

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually examined, excluding any margins that are zero, de minimis (i.e., less than 0.5 percent), or determined entirely on the basis of facts available.”

For these preliminary results, because the rate calculated for RSA Marines is zero, we have preliminarily assigned a dumping margin to these companies based on the rate calculated for NK Marine.

Preliminary Results of Review

As a result of this review, we preliminarily determine that the following weighted-average dumping margins exist for the respondents for the period February 1, 2022, through January 31, 2023:

Exporter/producer | Weighted- average dumping margin (percent)
NK Marine Exports LLP | 2.49
RSA Marines; Royal Oceans | 0.00
Companies Not Selected for Individual Review ¹⁰ | 2.49

Disclosure and Public Comment

¹⁰ The exporters or producers not selected for individual review are listed in Appendix II.

Commerce intends to disclose its calculations and analysis performed in connection with these preliminary results to interested parties within five days of any public announcement or, if there is no public announcement, within five days of the date of publication of this notice, in accordance with 19 CFR 351.224(b).

Pursuant to 19 CFR 351.309(c)(1)(ii), interested parties may submit case briefs to Commerce no later than 30 days after the date of publication of this notice. Rebuttal briefs, limited to issues raised in the case briefs, may be filed not later than five days after the date for filing case briefs.¹¹ Interested parties who submit case briefs or rebuttal briefs in this proceeding must submit: (1) a table of content listing each issue; and (2) a table of authorities.¹² Case and rebuttal briefs should be filed using ACCESS.

¹¹ See 19 CFR 351.309(d); see also Administrative Protective Order, Service, and Other Procedures in Antidumping and Countervailing Duty Proceedings, 88 FR 67069, 67077 (September 29, 2023) (APO and Service Final Rule).

¹² See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹³ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁴

¹³ We use the term “issue” here to describe an argument that Commerce would normally address in a comment of the Issues and Decision Memorandum.

¹⁴ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice. Oral presentations at the hearing will be limited to issues raised in the briefs. If a request for a hearing is made, parties will be notified of the time and date for the hearing.¹⁵

¹⁵ See 19 CFR 351.310(d).

Commerce intends to issue the final results of this administrative review, including the results of its analysis of issues raised in any written briefs, not later than 120 days after the date of publication of this notice in the Federal Register, unless otherwise extended.¹⁶

¹⁶ See section 751(a)(3)(A) of the Act.

Assessment Rates

Upon completion of the administrative review, Commerce shall determine, and CBP shall assess, antidumping duties on all appropriate entries covered by this review.¹⁷ Pursuant to 19 CFR 351.212(b)(1), because both respondents reported the entered value for all of their U.S. sales, we calculated importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

¹⁷ See 19 CFR 351.212(b)(1).

Commerce's “automatic assessment” will apply to entries of subject merchandise during the POR produced by NK Marine or RSA Marines for which these companies did not know that the merchandise they sold to the intermediary (e.g., a reseller, trading company, or exporter) was destined for the United States. In such instances, we will instruct CBP to liquidate unreviewed entries at the all-others rate if there is no rate for the intermediate company(ies) involved in the transaction.¹⁸

¹⁸ For a full discussion of this practice, see Antidumping and Countervailing Duty Proceedings: Assessment of Antidumping Duties, 68 FR 23954 (May 6, 2003).

For the companies listed in Appendix II which were not selected for individual review, we will assign an assessment rate based on the review-specific rate, calculated as noted in the “Review-Specific Rate for Companies Not Selected for Individual Review” section, above. The final results of this review shall be the basis for the assessment of antidumping duties on entries of merchandise covered by the final results of this review and for future deposits of estimated duties, where applicable.¹⁹

¹⁹ See section 751(a)(2)(C) of the Act.

For the companies listed in Appendix III for which we are rescinding the review, we will instruct CBP to assess antidumping duties on all appropriate entries at rates equal to the cash deposit of estimated antidumping duties required at the time of entry, or withdrawal from warehouse, in accordance with 19 CFR 351.212(c)(1)(i). Commerce intends to issue these rescission instructions to CBP no earlier than 35 days after the date of publication of this notice in the Federal Register.

Commerce intends to issue assessment instructions to CBP regarding NK Marine, RSA Marines, and the companies listed in Appendix II no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for previously reviewed or investigated companies not covered by this review, the cash deposit will continue to be the company-specific rate published for the most recently completed segment of this proceeding in which the company participated; (3) if the exporter is not a firm covered in this review, or the less-than-fair-value (LTFV) investigation, but the manufacturer is, the cash deposit rate will be the rate established for the most recent segment for the manufacturer of the merchandise; and (4) the cash deposit rate for all other manufacturers or exporters will continue to be 10.17 percent, the all-others rate established in the LTFV investigation.²⁰ These cash deposit requirements, when imposed, shall remain in effect until further notice.

²⁰ See Notice of Amended Final Determination of Sale at Less Than Fair Value and Antidumping Duty Order: Certain Frozen Warmwater Shrimp from India, 70 FR 5147 (February 1, 2005).

Notification to Importers

This notice serves as a preliminary reminder to importers of their responsibility under 19 CFR 351.402(f) to file a certificate regarding the reimbursement of antidumping duties prior to liquidation of the relevant entries during this review period. Failure to comply with this requirement could result in the Commerce's presumption that reimbursement of antidumping duties occurred and the subsequent assessment of double antidumping duties.

Notification to Interested Parties

We are issuing and publishing these results in accordance with sections 751(a)(1) and 777(i)(1) of the Act.

Dated: February 28, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Currency Conversion

VI. Recommendation

Appendix II

Review-Specific Average Rate Applicable to Companies Not Selected for Individual Review

1. Accelerated Freeze Drying Co.

2. ADF Foods Ltd.

3. Albys Agro Private Limited

4. Blue Park Seafoods Pvt. Ltd.

5. C.P. Aquaculture (India) Pvt. Ltd.

6. Corlim Marine Exports Pvt. Ltd.

7. Dwaraka Sea Foods

8. Hari Marine Private Limited

9. High Care Marine Foods Exports Private Limited

10. Highland Agro

11. Hyson Exports Private Limited

12. Jude Foods India Private Limited

13. Kay Kay Exports; Kay Kay Foods

14. Mangala Sea Products

15. Megaa Moda Pvt. Ltd.

16. Milsha Agro Exports Pvt. Ltd.

17. Mindhola Foods LLP

18. MMC Exports Limited

19. Naq Foods India Private Limited

20. Orchid Marine Exports Private Limited

21. Rajyalakshmi Marine Exports

22. Sahada Exports

23. Sai Aquatechs Private Limited

24. Shimpo Exports Private Limited

25. Sigma Seafoods

26. Sonia Marine Exports Private Limited

27. Sterling Foods

28. Supran Exim Private Limited

29. Uniloids Biosciences Private Limited

30. Vinner Marine

31. West Coast Fine Foods (India) Private Limited

32. West Coast Frozen Foods Private Limited

33. Zeal Aqua Limited

Appendix III

Companies With No Reviewable Entries

1. Abad Fisheries; Abad Fisheries Pvt. Ltd.

2. Al-Hassan Overseas Private Limited

3. Allana Frozen Foods Pvt. Ltd.

4. Allanasons Ltd.

5. Alps Ice & Cold Storage Private Limited

6. Amaravathi Aqua Exports Private Ltd.

7. Amarsagar Seafoods Private Limited

8. Amulya Seafoods

9. Anantha Seafoods Private Limited

10. Anjaneya Seafoods

11. Asvini Agro Exports

12. Ayshwarya Sea Food Private Limited

13. B R Traders

14. Baby Marine Eastern Exports

15. Baby Marine Exports

16. Baby Marine International

17. Baby Marine Sarass

18. Baby Marine Ventures

19. Balasore Marine Exports Private Limited

20. Basu International

21. BB Estates & Exports Private Limited

22. Bell Foods (Marine Division); Bell Exim Private Limited (Bell Foods (Marine Divison)); Bhatsons Aquatic Products

23. Bhavani Seafoods

24. Bhimraj Exports Private Limited

25. Bijaya Marine Products

26. Blue-Fin Frozen Foods Private Limited

27. Blue Water Foods & Exports P. Ltd.

28. Britto Seafood Exports Pvt Ltd.; Britto Exports; Britto Exports Pvt Ltd.

29. Calcutta Seafoods Pvt. Ltd.; Bay Seafood Pvt. Ltd.; Elque & Co.

30. Canaan Marine Products

31. Capithan Exporting Co.

32. Cargomar Private Limited

33. Chakri Fisheries Private Limited

34. Chemmeens (Regd)

35. Cherukattu Industries (Marine Div); Cherukattu Industries

36. Choice Canning Company

37. Cochin Frozen Food Exports Pvt. Ltd.

38. Cofoods Processors Private Limited

39. Continental Fisheries India Private Limited

40. Coreline Exports

41. CPF (India) Private Limited

42. Crystal Sea Foods Private Limited

43. Danica Aqua Exports Private Limited

44. Datla Sea Foods

45. Deepak Nexgen Foods and Feeds Pvt. Ltd.

46. Delsea Exports Pvt. Ltd.

47. Devi Sea Foods Limited

48. Empire Industries Limited

49. Entel Food Products Private Limited

50. Esmario Export Enterprises

51. Everblue Sea Foods Private Limited

52. Febin Marine Foods Private Limited; Febin Marine Foods

53. Fedora Sea Foods Private Limited

54. Food Products Pvt., Ltd.; Parayil Food Products Pvt., Ltd.

55. Forstar Frozen Foods Pvt. Ltd.

56. Fouress Food Products Private Limited

57. Frontline Exports Pvt. Ltd.

58. G A Randerian Ltd.; G A Randerian (P) Limited

59. Gadre Marine Exports; Gadre Marine Exports Pvt. Ltd.

60. Galaxy Maritech Exports P. Ltd.

61. Geo Aquatic Products (P) Ltd.

62. Grandtrust Overseas (P) Ltd.

63. Green Asia Impex Private Limited

64. GVR Exports Pvt. Ltd.

65. Haripriya Marine Exports Pvt. Ltd.

66. HIC ABF Special Foods Pvt. Ltd.

67. Hiravati Exports Pvt. Ltd.

68. Hiravati International Pvt. Ltd.

69. Hiravati Marine Products Private Limited

70. HMG Industries Ltd.

71. HN Indigos Private Limited

72. HT Foods Private Limited

73. Hyson Logistics and Marine Exports Private Limited

74. Indian Aquatic Products

75. Indo Aquatics

76. Indo Fisheries

77. Indo French Shellfish Company Private Limited

78. International Freezefish Exports

79. Jinny Marine Traders

80. K.V. Marine Exports

81. Karunya Marine Exports Private Limited

82. Kaushalya Aqua Marine Product Exports Pvt. Ltd.

83. Kings Infra Ventures Limited

84. Kings Marine Products

85. Koluthara Exports Ltd.

86. Libran Foods

87. Lito Marine Exports Private Limited

88. Marine Harvest India

89. Milsha Sea Products

90. Minaxi Fisheries Private Limited

91. Minh Phu Group

92. MTR Foods

93. Naik Frozen Foods Private Limited; Naik Frozen Foods

94. Naik Oceanic Exports Pvt. Ltd.; Rafiq Naik Exports Pvt. Ltd.

95. Naik Seafoods Ltd.

96. NAS Fisheries Pvt. Ltd.

97. Nine Up Frozen Foods

98. Nutrient Marine Foods Limited

99. Oceanic Edibles International Limited

100. Paragon Sea Foods Pvt. Ltd.

101. Paramount Seafoods

102. Pesca Marine Products Pvt., Ltd.

103. Pijikay International Exports P Ltd.

104. Poyilakada Fisheries Private Limited

105. Pravesh Seafood Private Limited

106. Premier Exports International

107. Premier Marine Foods

108. Premier Seafoods Exim (P) Ltd.

109. Protech Organo Foods Private Limited

110. R V R Marine Products Private Limited

111. Raju Exports

112. Ram's Assorted Cold Storage Limited

113. Raunaq Ice & Cold Storage

114. RDR Exports

115. RF Exports Private Limited

116. Rising Tide

117. Riyarchita Agro Farming Private Limited

118. Rupsha Fish Private Limited

119. S Chanchala Combines

120. Safera Food International

121. Sagar Samrat Seafoods

122. Sai Sea Foods

123. Salet Seafoods Pvt. Ltd.

124. Samaki Exports Private Limited

125. Sanchita Marine Products Private Limited

126. Sassoondock Matsyodyog Sahakari Society Ltd.

127. Sea Doris Marine Exports

128. Seagold Overseas Pvt. Ltd.

129. Seasaga Enterprises Private Limited; Seasaga Group

130. Shimpo Seafoods Private Limited

131. Shiva Frozen Food Exp. Pvt. Ltd.

132. Shroff Processed Food & Cold Storage P Ltd.

133. Silver Seafood

134. Sita Marine Exports

135. Sonia Fisheries

136. Sreeragam Exports Private Limited

137. Sri Sakkthi Cold Storage

138. Srikanth International

139. SSF Ltd.

140. St. Peter & Paul Sea Food Exports Pvt. Ltd.

141. Star Agro Marine Exports Private Limited

142. Star Organic Foods Private Limited

143. Stellar Marine Foods Private Limited

144. Sun Agro ExIm

145. Suvarna Rekha Exports Private Limited

146. Suvarna Rekha Marines P Ltd.

147. TBR Exports Private Limited

148. Tej Aqua Feeds Private Limited

149. Teekay Marines Private Limited; Teekay Marine P. Ltd.

150. The Waterbase Limited

151. Torry Harris Seafoods Ltd.

152. Triveni Fisheries P Ltd.

153. U & Company Marine Exports

154. Ulka Sea Foods Private Limited

155. Uniroyal Marine Exports Ltd.

156. Unitriveni Overseas Private Limited; Unitriveni Overseas

157. Vaisakhi Bio-Marine Private Limited

158. Vasai Frozen Food Co.

159. Varma Marine

160. Veronica Marine Exports Private Ltd.

161. Victoria Marine & Agro Exports Ltd.

162. Vitality Aquaculture Pvt. Ltd.

163. VKM Foods Private Limited

164. VRC Marine Foods LLP

[FR Doc. 2024-04620 Filed 3-4-24; 8:45 am]

BILLING CODE 3510-DS-P